DEPARTMENT OF COMMERCE

Foreign-Trade Zones Board

[Docket 51-2009]

Foreign-Trade Zone 37—Orange County, NY; Application for Expansion and Reorganization Under Alternative Site Framework

An application has been submitted to the Foreign-Trade Zones (FTZ) Board (the Board) by the County of Orange, New York, grantee of FTZ 37, requesting authority to expand the zone and reorganize under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the provisions of the Foreign-Trade Zones Act, as amended (19 U.S.C. 81a-81u), and the regulations of the Board (15 CFR part 400). It was formally filed on November 12, 2009.

The grantee's proposed service area under the ASF would be Orange County, New York. If approved, the grantee would be able to serve sites throughout the service area based on companies' needs for FTZ designation. The proposed service area is adjacent to or within the New York/Newark Customs and Border Protection port of entry.

FTZ 37 was approved by the Board on May 4, 1978 (Board Order 130, 43 FR 20526, 5/12/1978) and expanded on July 9, 1999 (Board Order 1044, 64 FR 38887, 7/20/1999). The applicant is requesting to include its current sites 3 and 7 as “magnet sites”. The applicant proposes that Site 3 be exempt from “sunset” time limits that otherwise apply to sites under the ASF. The applicant is requesting removal of sites 1, 2 and 5. Sites 4 and 6 have lapsed. The applicant is also requesting approval of the following initial “usage-driven” site: Proposed Site 8 (36 acres)—within the Chester Industrial Park, 29 Elizabeth Drive, Chester, NY.

In accordance with the Board's regulations, Maureen Hinman of the FTZ staff is designated examiner to evaluate and analyze the facts and information presented in the application and case record and to report findings and recommendations to the Board.

Public comment is invited from interested parties. Submissions (original and 3 copies) shall be addressed to the Board's Executive Secretary at the address listed below. The closing period for their receipt is January 19, 2010. Rebuttal comments in response to material submitted during the foregoing period may be submitted during the subsequent 15-day period (to February 3, 2010).

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Maureen Hinman at maureen.hinman@trade.gov or (202) 482-0627.

Dated: November 12, 2009.
Andrew McGilvray,
Executive Secretary.

[FR Doc. E9-27931 Filed 11-19-09; 8:45 am]

BILLING CODE 3510-DS-P